DEPARTMENT OF LABOR

Occupational Safety and Health Administration

29 CFR Parts 1910, 1915, 1917, 1918, and 1926

[Docket No. OSHA-2025-0024]

RIN 1218-AD58

Asbestos

AGENCY: Occupational Safety and Health Administration (OSHA), Labor.

ACTION: Proposed rule; request for comments.

SUMMARY: This proposed rule revises some substance-specific respirator requirements to allow different types of respirators to be used under OSHA's Asbestos standards and better aligns these standards with OSHA's Respiratory Protection standard.

DATES: Comments and other information, including requests for a hearing, must be received on or before September 2, 2025.

Informal public hearing: OSHA will schedule an informal public hearing on the rule if requested during the comment period. If a hearing is requested, the location and date of the hearing, procedures for interested parties to notify the agency of their intention to participate, and procedures for participants to submit their testimony and documentary evidence will be announced in the Federal Register.

ADDRESSES:

Written comments: You may submit comments and attachments, identified by Docket No. OSHA-2025-0024, electronically at https://www.regulations.gov, which is the Federal e-Rulemaking Portal. Follow the instructions online for making electronic submissions.

Instructions: All submissions must include the agency's name and the docket number for this rulemaking (Docket No. OSHA-2025-0024). When uploading multiple attachments to regulations.gov, please number all of your attachments because https://www.regulations.gov will not automatically number the attachments. This will be very useful in identifying all attachments. For example, Attachment 1—title of your document, Attachment 2—title of your document, Attachment 3—title of your document. For assistance with commenting and uploading documents, please see the Frequently Asked Questions on regulations.gov.

All comments, including any personal information you provide, are placed in the public docket without change and may be made available online at https://www.regulations.gov. Therefore, OSHA cautions commenters about submitting information they do not want made available to the public, or submitting materials that contain personal information (either about themselves or others), such as Social Security Numbers and birthdates.

Docket: The docket for this rulemaking (Docket No. OSHA-2025-0024) is available at https://www.regulations.gov, the Federal eRulemaking Portal. Most exhibits are available at https://www.regulations.gov; some exhibits (e.g., copyrighted material) are not available to download from that web page. However, all materials in the dockets are available for inspection at the OSHA Docket Office.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available at OSHA's web page at https://www.osha.gov. A “100-word summary” is also available on https://www.regulations.gov.

SUPPLEMENTARY INFORMATION:

Table of Contents

I. Executive Summary

II. Legal Authority and Preliminary Findings

III. Events Leading to the Proposed Rule

IV. Summary and Explanation of the Proposed Requirements

V. Economic Analysis

VI. Additional Requirements

VII. Authority and Signature

VIII. Regulatory Text

I. Executive Summary

This proposed rule is intended to provide greater compliance flexibility and clarify the policies and procedures employers must follow when implementing a respiratory protection program in conjunction with OSHA's Asbestos standards (29 CFR 1910.1001, 29 CFR 1915.1001, and 29 CFR 1926.1101). OSHA is proposing to revise some respirator-related provisions where they are unnecessarily prescriptive, which would result in employers having greater flexibility in the respirators they select for exposed workers, while providing equivalent worker protection. This proposal is also consistent with OSHA's intent, when it published the revised Respiratory Protection standard (29 CFR 1910.134), to use it as a foundation for respirator selection in substance-specific standards.

Additionally, OSHA believes that this proposed rule appropriately incorporates advances in technology, which have made some provisions of the Asbestos standards outdated, and would allow employers to take advantage of future technological advances. This proposed standard is intended to account for modern knowledge and technology and to streamline the selection of respirators.

II. Legal Authority and Preliminary Findings

The purpose of the Occupational Safety and Health Act (29 U.S.C. 651 et seq.) (“the Act” or “the OSH Act”) is “to assure so far as possible every working man and woman in the Nation safe and healthful working conditions and to preserve our human resources” (29 U.S.C. 651(b)). To achieve this goal, Congress authorized the Secretary of Labor (“the Secretary”) to promulgate standards to protect workers, including the authority “to set mandatory occupational safety and health standards applicable to businesses affecting interstate commerce” (29 U.S.C. 651(b)(3); see also 29 U.S.C. 654(a)(2) (requiring employers to comply with OSHA standards), 29 U.S.C. 655(a) (authorizing summary adoption of existing consensus and established federal standards within two years of the Act's enactment), 29 U.S.C. 655(b) (authorizing promulgation, modification or revocation of standards pursuant to notice and comment), and 29 U.S.C. 655(b)(7) (authorizing OSHA to include among a standard's requirements labeling, monitoring, medical testing, and other information-transmittal provisions)). An occupational safety and health standard is “. . . a standard which requires conditions, or the adoption or use of one or more practices, means, methods, operations, or processes, reasonably necessary or appropriate to provide safe or healthful employment and places of employment” (29 U.S.C. 652(8)). The Secretary may also issue regulations requiring employers to keep records regarding their activities relating to the Act, as well as records of work-related deaths, injuries, and illnesses (29 U.S.C. 657(c)(1)-(2)).

Before OSHA may promulgate a health or safety standard, it must find that a standard is reasonably necessary or appropriate within the meaning of section 652(8) of the OSH Act, which OSHA did here in 1972 when it published the Asbestos standard (37 FR 11318-02). The Supreme Court, in its decision on OSHA's Benzene standard, interpreted OSHA's obligation under section 652(8) as requiring it to evaluate “whether significant risks are present and can be eliminated or lessened by a change in practices” (Indus. Union Dep't, AFL-CIO v. Am. Petroleum Inst., 448 U.S. 607, 642 (1980) (plurality opinion)). OSHA originally published this standard as an emergency temporary standard (ETS) and found that asbestos posed a grave danger, which is a higher threshold than significant risk (36 FR 23207). When, as here, OSHA has previously determined that its standard substantially reduces a significant risk, it is unnecessary for the agency to make additional findings on risk for every provision of that standard (see, e.g., Pub. Citizen Health Research Grp. v. Tyson, 796 F.2d 1479, 1502 n.16 (D.C. Cir. 1986) (rejecting the argument that OSHA must “find that each and every aspect of its standard eliminates a significant risk”)). Rather, once OSHA makes a general significant risk finding in support of a standard, the next question is whether a particular requirement is reasonably related to the purpose of the standard as a whole (see Asbestos Info. Ass'n/N. Am. v. Reich, 117 F.3d 891, 894 (5th Cir. 1997); Forging Indus. Ass'n v. Sec'y of Labor, 773 F.2d 1436, 1447 (4th Cir. 1985); United Steelworkers of Am., AFL-CIO-CLC v. Marshall, 647 F.2d 1189, 1237-38 (D.C. Cir. 1980) (“Lead I”)). Therefore, while OSHA is not making a preliminary finding of significant risk for this proposed rule, the agency has made a preliminary determination that the proposed changes are reasonably related to the purpose of the Asbestos standards as a whole.

A standard is technologically feasible if the protective measures it requires already exist, can be brought into existence with available technology, or can be created with technology that is reasonably expected to be developed (see Am. Iron and Steel Inst. v. OSHA, 939 F.2d 975, 980 (D.C. Cir. 1991)). Courts have also interpreted technological feasibility to mean that a typical firm in each affected industry or application group will reasonably be able to implement the requirements of the standard in most operations most of the time (see, e.g., Public Citizen v. OSHA, 557 F.3d 165, 170-71 (3d Cir. 2009) (citing Lead I at 1272)).

This proposed rule would not substantially modify existing requirements for respiratory protection in workplaces; nor would it create new requirements. All employers in compliance with the existing standards would also be in compliance with the revised standard. Therefore, OSHA has made a preliminary determination that the proposed rule would be technologically feasible.

In evaluating economic feasibility, OSHA must consider the average cost of compliance in an industry rather than costs for individual employers. In its economic analyses, OSHA “must construct a reasonable estimate of compliance costs and demonstrate a reasonable likelihood that these costs will not threaten the existence or competitive structure of an industry, even if it does portend disaster for some marginal firms” (Am. Iron and Steel Inst., 939 F.2d at 980, quoting Lead I at 1272). OSHA has made a preliminary finding that this proposal is economically feasible because it is deregulatory and is expected to reduce costs for employers. OSHA's economic analysis is presented in Section V.

The Administrative Procedures Act directs agencies to include in each rule adopted “a concise general statement of [the rule's] basis and purpose” (5 U.S.C. 553(c)); cf. 29 U.S.C. 655(e) (requiring the Secretary to publish a “statement of reasons” for any standard promulgated)). This notice satisfies this concise statement requirement.

III. Events Leading to the Proposed Rule

OSHA adopted an Asbestos standard in 1972 (37 FR 11318-02). OSHA also has a general Respiratory Protection standard, 29 CFR 1910.134, which it first promulgated in 1971 (39 FR 9835). OSHA published a revised Respiratory Protection standard on January 8, 1998 (63 FR 1152). The Respiratory Protection standard contains worksite-specific requirements for program administration, as well as procedures for respirator selection, employee training, fit testing, medical evaluation, and respirator use, among other provisions. OSHA noted that the revised standard was to “serve as a `building block' standard with respect to future standards that may contain respiratory protection requirements” (63 FR 1265). In 2006, OSHA revised the Respiratory Protection standard again to incorporate assigned protection factors (APFs) in the respirator selection process (71 FR 50122-01).

Several OSHA standards regulating exposure to toxic substances and harmful physical agents, including the Asbestos standards, require compliance with many provisions of 29 CFR 1910.134. However, when revising the respirator rule, the Agency decided to retain several special respirator selection provisions in the existing substance-specific standards. In this regard, OSHA noted that the respirator selection requirements retained in the substance-specific standards were developed in rulemakings to provide protection against a hazardous characteristic or condition unique to the regulated substance. Consequently, OSHA felt that preserving these provisions in the individual substance-specific standards would maintain the level of respiratory protection afforded to employees.

In this proposal, OSHA is revisiting some of those determinations; the agency now believes that there are additional ways that substance-specific standards can rely on 29 CFR 1910.134 without compromising employee safety. The purpose of revising the respirator-related provisions of OSHA's Asbestos standards is to conform them, to the extent possible, with other substance-specific standards and to the revised 29 CFR 1910.134 in general. The proposed updates would improve the Asbestos standards because they would refer to the Assigned Protections Factors (APFs) in the Respiratory Protection standard, which is based on current technology and practices for respirator use. OSHA also believes that advances in technology have made the Asbestos standards outdated in some areas. These revisions are intended to take account of new knowledge and technology.

OSHA expects that the rule would ultimately reduce the compliance burden on the regulated community, without compromising worker safety. Therefore, OSHA believes this proposed rule is consistent with Executive Order (E.O.) 14219, “Ensuring Lawful Governance and Implementing the President's ‘Department of Government Efficiency’ Deregulatory Initiative,” E.O. 14192, “Unleashing Prosperity Through Deregulation,” and the goal of removing regulations that harm the national interest by impeding technological innovation or private enterprise and entrepreneurship.

IV. Summary and Explanation of the Proposed Requirements

OSHA is proposing to revise paragraphs (g) and (j) of its general industry Asbestos standard (29 CFR 1910.1001), paragraphs (h) and (k) of its shipyard employment Asbestos standard (29 CFR 1915.1001), and paragraphs (h) and (k) of its construction Asbestos standard (29 CFR 1926.1101) to reduce compliance burdens, allow for the use of more up-to-date technology, and improve the comprehensibility of the requirements for respiratory protection programs. These revisions would simplify compliance for employers by replacing requirements for specific respirator types with requirements for respirator selection based on APFs. The revisions would also conform the Asbestos standards, to the extent possible, to each other and to 29 CFR 1910.134 in general and would remove provisions in the Asbestos standards that are duplicative with the provisions of 1910.134. The Agency concludes, therefore, that updating these rules is consistent with the goals of facilitating technological innovation and reducing undue burden.

OSHA has preliminarily determined that paragraphs (g)(1)(i) through (iv) of the general industry Asbestos standard and paragraphs (h)(1)(i) through (viii) of the shipyard employment and construction industry Asbestos standards, which describe when respiratory protection must be used, unnecessarily duplicate the general provisions covered by 1910.134(a). OSHA is therefore proposing to remove those paragraphs and add a cross reference to 1910.134(a)(2) in paragraph (g)(1) of the general industry Asbestos standard and paragraphs (h)(1) of the shipyard employment and construction standards for Asbestos. OSHA does not intend for these changes to add to or change the regulatory burden on employers; actions that comply with the requirements in the existing standards would also be in compliance with the proposed amended standards.

OSHA is also proposing to make changes in paragraph (g) of the general industry Asbestos standard and paragraph (h) of the shipyard employment and construction Asbestos standards that would allow employers to choose respirators based on the APF factors from 1910.134, provide employers with more respirator options that are equally protective, and allow them to use respirators that may be developed in the future that are equally protective. The proposed changes are:

• In paragraph (g)(2)(ii) of the general industry Asbestos standard, paragraphs (h)(2)(iii)(A) and (B) of the shipyard employment Asbestos standard, and paragraph (h)(3)(ii) of the construction Asbestos standard, replace the requirement for employers to provide tight-fitting powered air-purifying respirators (PAPRs) when requested by employees with a requirement to provide any PAPR that has a minimum APF of 50;

• In paragraph (h)(2)(v)(A) of the shipyard employment Asbestos standard and (h)(3)(iv)(A) of the construction industry Asbestos standard, replace the requirement for employers to provide a tight-fitting, powered air-purifying respirator or a full facepiece, supplied-air respirator operated in the pressure-demand mode and equipped with either HEPA egress cartridges or an auxiliary positive-pressure, self-contained breathing apparatus (SCBA) with a requirement to provide a respirator that has a minimum assigned protection factor (APF) of 50;

• In paragraph (h)(2)(iv) of the shipyard employment Asbestos standard and paragraph (h)(3)(iii) of the construction Asbestos standard, replace the requirement for employers to provide an air-purifying, half mask respirator with a requirement to provide a respirator that has a minimum APF of 10; and

• In paragraph (h)(3)(iv)(B) of the construction Asbestos standard, replace the requirement for employers to provide a full facepiece supplied-air respirator operated in the pressure-demand mode with a requirement to provide a respirator that has a minimum APF of 1,000.

These revisions would all allow employers to choose from a wider range of equally protective respirators. For example, under the proposed versions of paragraphs (g)(2)(ii) of the general industry Asbestos standard, (h)(2)(iii)(A) and (B) of the shipyards Asbestos standard, and (h)(3)(ii) of the construction Asbestos standard, employers would be able to choose alternate devices, such as PAPRs with helmets or hoods, that are at least as protective as tight-fitting PAPRs and do not require fit-testing, potentially saving employers significant time and money while increasing worker protections. In that example, however, the employer must have evidence provided by the respirator manufacturer that testing of these helmet or hood respirators demonstrates performance at a level of protection of 1,000 or greater to receive an APF of 1,000, as indicated in existing Footnote 4 of Table 1 in 29 CFR 1910.134.

Additionally, OSHA is proposing to remove paragraph (g)(3)(ii) of the general industry Asbestos standard, paragraph (h)(2)(ii) of the shipyard employment Asbestos standard, and paragraph (h)(3)(i)(B) of the construction Asbestos standard, which require HEPA filters for powered and non-powered air-purifying respirators. That requirement was included because HEPA filters were originally part of NIOSH's certification standards for respirators under 30 CFR part 11. However, NIOSH published revised requirements for testing and certification procedures and recodified the previous certification standards for other respirator classes as 42 CFR part 84 on June 8, 1995 (60 FR 30336). The HEPA filter requirement is not part of the revised 42 CFR part 84 because additional types of filters have been certified for protection from particulates and can be used with powered and non-powered air-purifying respirators. OSHA believes that these testing and certification requirements ensure that all particulate filters certified under 42 CFR part 84, including HEPA filters, are efficient in preventing the penetration of submicron-sized particles; OSHA recognized this when the Agency's revised Respiratory Protection standard was issued on January 8, 1998 (63 FR 1152). In fact, OSHA has issued other substance-specific regulations since the revised Respiratory Protection standard and NIOSH's revised certification requirements were issued and has not incorporated a requirement for HEPA filters in similar respirator provisions in those rules.

Finally, OSHA has preliminarily determined that the respirator requirements in paragraph (j)(7)(iii)(F) of the general industry Asbestos standard, paragraph (k)(9)(viii)(E) of the shipyard employment Asbestos standard, and paragraph (k)(9)(viii)(E) of the construction Asbestos standard, which require employers to provide training on the purpose, proper use, fitting instructions, and limitations of respirators, unnecessarily duplicate the general provisions covered by the Respiratory Protection standard, 1910.134(k). OSHA therefore is proposing to revise paragraph (j)(7)(iii)(F) of the general industry standard (which would still require employers to provide training about protective clothing) and remove and reserve paragraphs (k)(9)(viii)(E) of the Asbestos standards for shipyard employment and construction (which do not have requirements related to protective clothing).

OSHA is also considering, but not proposing, removing the requirement under paragraph (g)(2)(ii) of the general industry Asbestos standard, paragraphs (h)(2)(iii)(A) and (h)(2)(iii)(B) of the shipyard employment Asbestos standard, and paragraph (h)(3)(ii) of the construction Asbestos standard, to provide an employee with a powered air-purifying respirator (PAPR) instead of a negative pressure respirator when the employee chooses to use a PAPR. OSHA believes that the removal of these provisions would not compromise worker safety and health—the provisions are about employee requests and, without them, workers would still be provided adequate protection. When OSHA updated the Respiratory Protection standard, the agency determined that it was appropriate to allow an employer to provide additional respiratory protection when requested, rather than mandate it (29 CFR 1910.134(c)(2)). Removing these requirements in the Asbestos standards would still allow for voluntary respirator use under some circumstances (i.e., where the employer agrees to provide the equipment) and would better align with the general Respiratory Protection standard. However, the Agency acknowledges that user comfort affects workers' compliance with requirements to wear respiratory protection and questions whether the existing requirements under 1910.134(c)(2) and Table 1 offer equivalent access to alternative styles of respiratory protection. OSHA also understands that some employees may have come to rely on certain types of respiratory protection from asbestos at work, even when the standard does not require that level of protection. OSHA therefore seeks comment on the merits of removing these provisions.

Similarly, OSHA is considering, but not proposing, revising paragraph (g)(3)(i) of the general industry Asbestos standard, paragraphs (h)(2)(i) and (h)(2)(iv) of the shipyard employment Asbestos standard, and paragraphs (h)(3)(i)(A) and (h)(3)(iii) of the construction Asbestos standard to remove the prohibition on using filtering facepiece respirators and to allow employees to use any respirator selected in accordance with paragraph (d)(3)(i)(A) of 29 CFR 1910.134. OSHA believes that the prohibition on filtering facepiece respirators may be based on outdated technology and certification data and that the use of filtering facepieces would therefore not reduce worker safety and health. OSHA seeks comments on whether or not removing that prohibition would decrease worker protections.

OSHA recognizes that adopting these revisions will also result in the revision of the respiratory protection provisions in OSHA's marine terminals and longshoring requirements for asbestos (see 29 CFR 29 CFR 1917.1 and 29 CFR 1918.1, which apply the requirements in 1910.1001 to marine terminals and longshoring). OSHA requests comment regarding whether there are any considerations that are unique to the use of respirators for protection against asbestos hazards in marine terminals or longshoring that OSHA should consider when finalizing this proposal. OSHA is in the process of appointing members to the Advisory Committee on Construction Safety and Health (ACCSH). The agency intends to present this proposed rule to ACCSH once that process is complete. The agency will put the Committee's recommendations on the OSHA website and in the docket for this proposed rule prior to the close of the comment period to allow the public to provide comments on those recommendations.

OSHA requests comments on this proposal, including responses regarding the following issues:

1. Are there any concerns that making the changes described in this proposal will decrease worker safety? If so, which provisions and why?

2. Are there alternative approaches OSHA should consider for any of these revisions?

3. Should OSHA remove the requirement for employers to provide PAPRs when they are requested by employees? In your experience, how often do employees request to use PAPRs when the Asbestos standard does not require them?

4. Are there any concerns that removing any of the substance-specific provisions in the Asbestos standards and relying on the generic requirements of the Respiratory Protection standard will inadequately capture the content and requirements of the current substance-specific provisions? In particular, are there any specific provisions that would be important to retain rather than switching to selection based on APF factors?

5. Should OSHA maintain the prohibition on using filtering facepiece respirators for exposures to asbestos fibers?

6. How many employers are likely to have been impacted by the redundant provisions and were providing duplicative training?

V. Economic Analysis

This proposed rule would remove redundant requirements and expand compliance options in the Asbestos standards, 29 CFR 1910.1001, 29 CFR 1915.1001, and 1926.1101, and therefore OSHA has preliminarily concluded that there would be no additional costs imposed by the proposed revisions. OSHA also anticipates that there would be some cost savings associated with this rule, including savings based on employers being able to choose more cost-effective respirators and a reduction of the burdens associated with reviewing unnecessarily duplicative regulations. Because this rule would impose no new costs, OSHA has made a preliminary determination that the rule would be economically feasible.

Based on the Supporting Statements for the Information Collection Requests (ICR) for the Asbestos in general industry ¹ and construction standards,² there are 375,479 employees who are subject to exposure monitoring for asbestos exposure. In a 1990 economic analysis prepared for the proposed changes to the Asbestos standards for construction and general industry, OSHA estimated that “from four to 10 percent of total employment . . . are potentially exposed to asbestos each year.” ³ Based on this, and given that the Asbestos standards require periodic monitoring when employees are expected to be exposed above the PEL, OSHA is estimating that 10 percent of employees, or 37,548 employees, subject to periodic monitoring are using respirators. OSHA further assumes that 50 percent of those employees—18,774 employees—will switch from tight-fitting respirators to loose-fitting PAPRs and therefore avoid the costs of fit testing.

¹ See Document ID OSHA-2010-0018-0016.

² See Document ID OSHA-2012-0002-0027.

³ See Document ID OSHA-H033E-2006-0915-0627.

In the Supporting Statement for the Information Collection Request for the Asbestos in Shipyards standard, OSHA stated that the “agency assumes that it will take 30 minutes (30/60 hour) of employee time and 30 minutes (30/60 hour) of supervisory time to conduct and record the results of each respirator fit testing, which occurs twice annually.” That ICR also estimated that 153 shipyard employees are fit tested.⁴ Like for general industry and construction, OSHA assumes for purposes of this analysis that 50 percent of those employees will switch from tight-fitting to loose-fitting PAPRs and their employers will therefore avoid the costs of fit testing.

⁴ See Document ID OSHA-2012-0009-0014.

Using the loaded wage rates for production employees and supervisors in the respective ICRs, OSHA estimates that the proposed changes could result in savings of about $1.5 million annually among general industry, construction, and shipyard employers, just from savings on fit testing (or about $11.3 million over 10 years at a 3 percent discount rate).

OSHA is seeking comments and data on this preliminary analysis, including on the following questions:

1. How much do employers expect to save based on the increased flexibility in respirator selection?

2. How many employees currently use respirators for protection against asbestos?

3. How many employees would employers expect to use helmet or hooded style respirators instead of a full facepiece under the proposed revisions?

4. Are there any other savings for employers that would result from the proposed change?

5. Are there any benefits for worker protection that can be anticipated from this proposed change?

6. Are there any costs for employers that would result from this change that OSHA has not considered?

7. Are there cost savings associated with no longer being restricted to HEPA filters for powered and non-powered air-purifying respirators?

8. How much familiarization time would employers who are new entrants to the market expect to save based on the revisions?

9. Are there additional categories of cost savings that OSHA has not identified?

10. Are there savings to employers outside of general industry, construction, and shipyards related to this proposal? If so, would they be similar to what OSHA has estimated for general industry, construction, and shipyard employers?

A. Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

OSHA reviewed this proposed rule under the provisions of the Regulatory Flexibility Act. This rule would eliminate burdensome regulations. Therefore, OSHA initially concludes that the impacts of the revisions would not have a “significant economic impact on a substantial number of small entities,” and that the preparation of an IRFA is not warranted. OSHA will transmit this certification and supporting statement of factual basis to the Chief Counsel for Advocacy of the Small Business Administration for review under 5 U.S.C. 605(b).

B. Review Under Executive Order 12866

E.O. 12866, “Regulatory Planning and Review” (58 FR 51735 (Oct. 4, 1993)), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to the Office of Information and Regulatory Affairs (OIRA) for review. OIRA has determined that this proposed rule would not constitute a “significant regulatory action” under section 3(f) of E.O. 12866. Accordingly, this proposal was not submitted to OIRA for review under E.O. 12866.

VI. Additional Requirements

A. Requirements for States With OSHA-Approved State Plans

Under section 18 of the OSH Act (29 U.S.C. 651 et seq.), Congress expressly provides that States may adopt, with Federal approval, a plan for the development and enforcement of occupational safety and health standards that are “at least as effective” as the Federal standards in providing safe and healthful employment and places of employment (29 U.S.C. 667). OSHA refers to these OSHA-approved, State-administered occupational safety and health programs as “State Plans.” ⁵

⁵ Of the 29 States and U.S. territories with OSHA-approved State Plans, 22 cover public and private-sector employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. The remaining six States and one U.S. territory cover only State and local government employees: Connecticut, Illinois, Maine, Massachusetts, New Jersey, New York, and the Virgin Islands.

When Federal OSHA promulgates a new standard or a more stringent amendment to an existing standard, State Plans must either amend their standards to be identical to, or “at least as effective as,” the new Federal standard or amendment, or show that an existing State Plan standard covering this issue is “at least as effective” as the new Federal standard or amendment (29 CFR 1953.5(a)). However, when OSHA promulgates a new standard or amendment that does not impose additional or more stringent requirements than an existing standard, State Plans do not have to amend their standards, although they may opt to do so. OSHA has preliminarily determined this proposed rule does not impose additional or more stringent requirements than the existing standard, and therefore State Plans are not required to amend their standards. OSHA seeks comment on this assessment of its proposal.

B. OMB Review Under the Paperwork Reduction Act of 1995

The Paperwork Reduction Act (PRA) defines “collection of information” to mean “the obtaining, causing to be obtained, soliciting, or requiring the disclosure to third parties or the public, of facts or opinions by or for an agency, regardless of form or format” (44 U.S.C. 3502(3)(A)). Under the PRA, a Federal agency cannot conduct or sponsor a collection of information unless it is approved by OMB under the PRA and the agency displays a currently valid OMB control number (44 U.S.C. 3507). Also, notwithstanding any other provisions of law, no person shall be subject to penalty for failing to comply with a collection of information if the collection of information does not display a currently valid OMB control number (44 U.S.C. 3512(a)(1)). The process for OMB approval is found in 5 CFR part 1320.

This proposed rule would impose no new information collection requirements. Because the revisions are deregulatory and affect only minor changes to the existing information collections in the Asbestos standard (OMB Control Numbers 1218-0195, 1218-0134, and 1218-0133), OMB has waived the requirements of 5 CFR part 1320 and approved the modified Information Collection Request (ICR) under existing OMB Control Numbers 1218-0195, 1218-0134, and 1218-0133 (see 5 CFR 1320.18(d)).

C. Environmental Impacts/National Environmental Policy Act (NEPA)

OSHA has reviewed this proposed rule according to the National Environmental Policy Act of 1969 (NEPA) (42 U.S.C. 4321 et seq.), as amended by the Fiscal Responsibility Act of 2023 (Pub. L. 118-5, 321, 137 Stat. 10), and the Department of Labor's NEPA procedures (29 CFR part 11). OSHA has determined that this proposal would have no impact on the quality of the human environment.

D. Other Statutory and Executive Order Considerations

OSHA has considered its obligations under the Unfunded Mandates Reform Act (UMRA) (2 U.S.C. 1501 et seq.) and the Executive Orders on Consultation and Coordination With Indian Tribal Governments (E.O. 13175, 65 FR 67249 (Nov. 6, 2000)), Federalism (E.O. 13132, 64 FR 43255 (Aug. 10, 1999)), and Protection of Children From Environmental Health Risks and Safety Risks (E.O. 13045, 62 FR 19885 (Apr. 23, 1997)). Given that this is a proposed deregulatory action that involves the removal of requirements, that OSHA does not foresee economic impacts of $100 million or more, and that the action does not constitute a policy that has federalism or tribal implications, OSHA has determined that no further agency action or analysis is required to comply with these statutes and executive orders. Furthermore, OSHA has determined that this proposal is consistent with the policies and directives outlined in E.O. 14192, “Unleashing Prosperity Through Deregulation” and is an Executive Order 14192 deregulatory action.

List of Subjects in 29 CFR Parts 1910, 1915, and 1926

Assigned protection factors, Airborne contaminants, Health, Occupational safety and health, Respirators, Respirator selection.

VII. Authority and Signature

This document was prepared under the direction of Amanda Laihow, Acting Assistant Secretary of Labor for Occupational Safety and Health. It is issued under the authority of sections 4, 6, and 8 of the Occupational Safety and Health Act of 1970 (29 U.S.C. 653, 655, and 657), 5 U.S.C. 553, Secretary of Labor's Order No. 8-2020 (85 FR 58393), and 29 CFR part 1911.

Dated: June 20, 2025.
Amanda Laihow,
Acting Assistant Secretary of Labor for Occupational Safety and Health.

VIII. Regulatory Text

Proposed Amendments

For the reasons set forth in the preamble, OSHA is amending 29 CFR part 1910 as follows:

PART 1910—OCCUPATIONAL SAFETY AND HEALTH STANDARDS

Subpart Z—Toxic and Hazardous Substances

1. The authority for 29 CFR 1910 subpart Z is revised to read as follows:

Authority: 33 U.S.C. 941; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008); 5-2007 (72 FR 31160), 4-2010 (75 FR 55355), 1-2012 (77 FR 3912), or 8-2020 (85 FR 58393); 29 CFR part 1911; and 5 U.S.C. 553, as applicable.

All of subpart Z issued under 29 U.S.C. 655(b), except those substances that have exposure limits listed in Tables Z-1, Z-2, and Z-3 of § 1910.1000. The latter were issued under 29 U.S.C. 655(a).

Section 1910.1000, Tables Z-1, Z-2 and Z-3 also issued under 5 U.S.C. 553, but not under 29 CFR part 1911 except for the arsenic (organic compounds), benzene, cotton dust, and chromium (VI) listings.

Section 1910.1001 also issued under 40 U.S.C. 3704 and 5 U.S.C. 553.

Section 1910.1002 also issued under 5 U.S.C. 553, but not under 29 U.S.C. 655 or 29 CFR part 1911.

Sections 1910.1018, 1910.1029, and 1910.1200 also issued under 29 U.S.C. 653.

Section 1910.1030 also issued under Public Law 106-430, 114 Stat. 1901.

Section 1910.1201 also issued under 49 U.S.C. 1801-1819 and 5 U.S.C. 553.

2. § 1910.1001 is revised as follows:

1. Revise and republish paragraph (g)(1), (g)(2)(ii), (g)(3) and (j)(7)(iii)(F)

2. Remove paragraphs (g)(1)(i)-(iv) and (g)(3)(i)-(ii)

The revisions and additions read as follows:

(g) * * *

(1) General. For employees who use respirators required by this section, the employer must provide each employee an appropriate respirator that complies with the requirements of this paragraph. Respirators must be used when the employer determines that they are necessary to protect the health of an employee as required under 29 CFR 1910.134(a)(2).

(2) * * *

(i) * * *

(ii) Employers must provide an employee with a powered air-purifying respirator (PAPR) that has a minimum assigned protection factor (APF) of 50 instead of a negative pressure respirator selected according to paragraph (g)(3) of this standard when the employee chooses to use a PAPR and it provides adequate protection to the employee.

(iii) * * *

(3) Respirator selection. Employers must select, and provide to employees, the appropriate respirators specified in paragraph (d)(3)(i)(A) of 29 CFR 1910.134; however, employers must not select or use filtering facepiece respirators for protection against asbestos fibers.

* * * * *

(j) * * *

(1) * * *

(2) * * *

(3) * * *

(4) * * *

(5) * * *

(6) * * *

(7) * * *

(i) * * *

(ii) * * *

(iii) * * *

(A) * * *

(B) * * *

(C) * * *

(D) * * *

(E) * * *

(F) The purpose, proper use, and limitations of protective clothing, if appropriate;

* * * * *

PART 1915—OCCUPATIONAL SAFETY AND HEALTH STANDARDS FOR SHIPYARD EMPLOYMENT

3. The authority for 29 CFR part 1915 continues to read as follows:

Authority: 33 U.S.C. 941; 29 U.S.C. 653, 655, 657; Secretary of Labor's Order No. 12-71 (36 FR 8754); 8-76 (41 FR 25059), 9-83 (48 FR 35736), 1-90 (55 FR 9033), 6-96 (62 FR 111), 3-2000 (65 FR 50017), 5-2002 (67 FR 65008), 5-2007 (72 FR 31160), 4-2010 (75 FR 55355), 1-2012 (77 FR 3912), or 8-2020 (85 FR 58393); 29 CFR part 1911; and 5 U.S.C. 553, as applicable.

Subpart Z—Toxic and Hazardous Substances

4. § 1915.1001 is revised as follows:

a. Revise and republish paragraphs (h)(1), (h)(2)(iii)(A)-(B), (h)(2)(iv), and (h)(2)(v)(A)

b. Remove paragraphs (h)(1)(i)-(viii)

c. Remove and reserve paragraphs (h)(2)(ii) and (k)(9)(viii)(E)

The revisions and additions read as follows:

(h) * * *

(1) General. For employees who use respirators required by this section, the employer must provide each employee an appropriate respirator that complies with the requirements of this paragraph. Respirators must be used when the employer determines that they are necessary to protect the health of an employee as required under 29 CFR 1910.134(a)(2).

(2) * * *

(i) * * *

(ii) [Reserved]

(iii) * * *

(A) Inform employees that they may require the employer to provide a powered air-purifying respirator (PAPR) that has a minimum assigned protection factor (APF) of 50 and is permitted for use under paragraph (h)(2)(i) of this standard instead of a negative pressure respirator.

(B) Provide employees with a PAPR that has a minimum assigned protection factor (APF) of 50 instead of a negative pressure respirator when the employees choose to use a PAPR and it provides them with the required protection against asbestos.

(iv) Employers must provide employees with a respirator that has a minimum assigned protection factor (APF) of 10, other than a filtering facepiece respirator, whenever the employees perform:

(A) * * *

(B) * * *

(v) * * *

(A) A respirator that has a minimum assigned protection factor (APF) of 50 whenever the employees are in a regulated area performing Class I asbestos work for which a negative exposure assessment is not available and the exposure assessment indicates that the exposure level will be at or below 1 f/cc as an 8-hour time-weighted average (TWA).

* * * * *

(k) * * *

(1) * * *

(2) * * *

(3) * * *

(4) * * *

(5) * * *

(6) * * *

(7) * * *

(8) * * *

(9) * * *

(i) * * *

(ii) * * *

(iii) * * *

(iv) * * *

(v) * * *

(vi) * * *

(vii) * * *

(viii) * * *

(A) * * *

(B) * * *

(C) * * *

(D) * * *

(E) [Reserved]

* * * * *

PART 1926—SAFETY AND HEALTH REGULATIONS FOR CONSTRUCTION

1. The authority for 29 CFR 1926 subpart Z is revised to read as follows:

Authority: 40 U.S.C. 3704; 29 U.S.C. 653, 655, 657; and Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31160), 4-2010 (75 FR 55355), 1-2012 (77 FR 3912), or 8-2020 (85 FR 58393), as applicable; and 29 CFR part 1911.

Section 1926.1102 not issued under 29 U.S.C. 655 or 29 CFR part 1911; also issued under 5 U.S.C. 553.

2. § 1926.1101 is revised as follows:

a. Revise and republish paragraphs (h)(1), (h)(3)(i), (h)(3)(ii), (h)(3)(iii), and (h)(3)(iv)(A)-(B)

b. Remove paragraphs (h)(1)(i)-(viii) and (h)(3)(i)(A)-(B)

c. Remove and reserve paragraph (k)(9)(viii)(E)

The revisions and additions read as follows:

(h) * * *

(1) General. For employees who use respirators required by this section, the employer must provide each employee an appropriate respirator that complies with the requirements of this paragraph. Respirators must be used when the employer determines that they are necessary to protect the health of an employee as required under 29 CFR 1910.134(a)(2).

(2) * * *

(3) * * *

(i) Employers must select, and provide to employees, the appropriate respirators specified in paragraph (d)(3)(i)(A) of 29 CFR 1910.134; however, employers must not select or use filtering facepiece respirators for use against asbestos fibers.

(ii) Employers must provide an employee with a powered air-purifying respirator (PAPR) that has a minimum assigned protection factor (APF) of 50 instead of a negative pressure respirator selected according to paragraph (h)(3)(i)(A) of this standard when the employee chooses to use a PAPR and it provides adequate protection to the employee.

(iii) Employers must provide employees with a respirator that has a minimum assigned protection factor (APF) of 10, other than a filtering facepiece respirator, whenever the employees perform:

(A) * * *

(B) * * *

(iv) * * *

(A) A respirator that has a minimum APF of 50 whenever the employees are in a regulated area performing Class I asbestos work for which a negative exposure assessment is not available and the exposure assessment indicates that the exposure level will be at or below 1 f/cc as an 8-hour time-weighted average (TWA).

(B) A respirator that has a minimum APF of 1,000 and is equipped with an auxiliary positive-pressure SCBA whenever the employees are in a regulated area performing Class I asbestos work for which a negative exposure assessment is not available and the exposure assessment indicates that the exposure level will be above 1 f/cc as an 8-hour TWA.

* * * * *

(k) * * *

(1) * * *

(2) * * *

(3) * * *

(4) * * *

(5) * * *

(6) * * *

(7) * * *

(8) * * *

(9) * * *

(i) * * *

(ii) * * *

(iii) * * *

(iv) * * *

(v) * * *

(vi) * * *

(vii) * * *

(viii) * * *

(A) * * *

(B) * * *

(C) * * *

(D) * * *

(E) [Reserved]

* * * * *

[FR Doc. 2025-11633 Filed 6-30-25; 8:45 am]

BILLING CODE 4510-26-P